ENVIRONMENTAL PROTECTION AGENCY

[EPA-HQ-OLEM-2017-0444; FRL-9976-57-OEI]

Information Collection Request Submitted to OMB for Review and Approval; Comment Request; Hazardous Substance Handling and Storage Procedures and Associated Costs Survey

AGENCY: Environmental Protection Agency (EPA).

ACTION: Notice.

SUMMARY: The Environmental Protection Agency (EPA) has submitted an information collection request (ICR), “Hazardous Substance Handling and Storage Procedures and Associated Costs Survey” (EPA ICR No. 2566.01, OMB Control No. 2050-NEW) to the Office of Management and Budget (OMB) review and approval in accordance with the Paperwork Reduction Act. This is a request for approval of a new collection. Public comments were previously requested via the Federal Register September 27, 2017 during a 60-day comment period. This notice allows for an additional 30 days for public comments. A fuller description of the ICR is given below, including its estimated burden and cost to the public. An agency may not conduct or sponsor and a person is not required to respond to a collection of information unless it displays a currently valid OMB control number.

DATES: Comments must be submitted on or before May 10, 2018.

ADDRESSES: Submit your comments, referencing Docket ID No. EPA-HQ-OLEM-2017-0444, to (1) EPA online using www.regulations.gov (our preferred method) or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Joe Beaman, OLEM/OEM/RID, (5104A), Environmental Protection Agency, 1200 Pennsylvania Ave. NW, Washington, DC 20460; telephone number: 202-566-0420; email address: beaman.joe@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The Clean Water Act (CWA) directs the President to issue regulations “establishing procedures, methods, and equipment and other requirements for equipment to prevent discharges of oil and hazardous substances from . . . onshore facilities and offshore facilities, and to contain such discharges” (33 U.S.C. 1321(j)(1)(C)). In 1978, EPA designated a list of hazardous substances under the authority of CWA section 311(b)(2)(A). This list is found at 40 CFR part 116. EPA concurrently proposed requirements to prevent the discharge of designated hazardous substances from facilities subject to permitting requirements under the National Pollutant Discharge Elimination System (NPDES) of the CWA (43 FR 39276); the proposed regulations were never finalized. On July 21, 2015, several parties filed a lawsuit against EPA for unreasonable delay/failure to perform a nondiscretionary duty to establish regulations for hazardous substances under CWA section 311(j)(1)(C). According to a settlement agreement reached in that case and filed with the United States District Court, Southern District of New York, on February 16, 2016, EPA is to sign a proposed regulatory action no later than June 16, 2018.

EPA is developing a regulatory proposal regarding the prevention of CWA hazardous substance discharges. EPA does not directly receive reports on specific types and amounts of hazardous substances stored and used at facilities across the country. Much of that information is collected under the Emergency Planning and Community Right-to-Know Act (42 U.S. Code Chapter 116; EPCRA) which requires Tier II facilities to report the maximum and average daily amounts of hazardous chemicals onsite during the preceding year to their respective state, Tribal, or territorial authority. Therefore, the Agency has developed a short voluntary survey to be sent to states, tribes and territories of the United States requesting information on the number and type of EPCRA Tier II facilities reporting CWA hazardous substances onsite, as well as information about historical discharges of CWA hazardous substances, ecological and human health impacts of those discharges, and existing state and tribal regulatory programs that serve to prevent discharges of hazardous substances. This information will assist EPA in estimating the universe of facilities nationwide potentially subject to discharge prevention regulations for hazardous substances designated at 40 CFR part 116. EPA anticipates this information will inform the rulemaking process, assisting in the identification of potentially affected entities, evaluation of potential regulatory approaches, and estimating economic impacts.

Form numbers: None.

Respondents/affected entities: Respondents to this voluntary ICR are state, territorial, and tribal government agencies with Emergency Response Commission duties (e.g., State Emergency Response Commission [SERCs], Tribal Emergency Response Commissions [TERCs]), as well as sister agencies within the respective jurisdictions that may have additional information. The state SERC staff identified by EPA Regional liaisons will be the agency's primary point of contact (POC). EPA will assist state POCs in identifying other state and tribal agencies that may have data that would assist in responding to this survey.

Respondent's obligation to respond: Voluntary.

Estimated number of respondents: 490.

Frequency of response: Once.

Total estimated annual burden: 42,630 hours. Burden is defined at 5 CFR 1320.03(b).

Total estimated annual cost: $899,150.00, includes $0 annualized capital or operation & maintenance costs.

Courtney Kerwin,
Director, Regulatory Support Division.

[FR Doc. 2018-07328 Filed 4-9-18; 8:45 am]

BILLING CODE 6560-50-P